DEPARTMENT OF ENERGY

Federal Energy Regulatory Commission

[Docket No. RP02-361-013]

Gulfstream Natural Gas System, L.L.C.; Notice of Negotiated Rates

September 17, 2003.

Take notice that on September 12, 2003, Gulfstream Natural Gas System, L.L.C. (Gulfstream) tendered for filing as part of its FERC Gas Tariff, Original Volume No. 1, Sub Original Sheet No. 8K, reflecting an effective date of August 1, 2003.

Gulfstream states that this filing is being made as a supplement to its August 28, 2003 filing in this proceeding to implement a Park negotiated rate transaction under Rate Schedule PALS. Gulfstream states that the tariff sheet clarifies that the negotiated rate applies without regard to the points agreed to by Gulfstream and the shipper for receipt or return of parked quantities.

Gulfstream states that copies of its filing have been mailed to all affected customers and interested state commissions, as well as all parties on the Commission's Official Service List compiled by the Secretary in this proceeding.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: September 24, 2003.

Magalie R. Salas,
Secretary.

[FR Doc. 03-24239 Filed 9-24-03; 8:45 am]

BILLING CODE 6717-01-P